NATIONAL CREDIT UNION ADMINISTRATION

Agency Information Collection Activities: Submission to OMB for a New Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection notice is published to obtain comments from the public. The NCUA is proposing a new information collection related to its solicitation of proposals for outside legal counsel (outside counsel) to assist and advise the NCUA in its various capacities. The information will assist the NCUA in further: (i) Standardizing the data it uses to select outside counsel; (ii) considering additional criteria in making its selections; and (iii) improving efficiency and recordkeeping related to its selection process.

DATES: Comments will be accepted until June 3, 2013.

ADDRESSES: Interested parties are invited to submit written comments to the NCUA Contact and the OMB Reviewer listed below:

NCUA Contact: Tracy Crews, National Credit Union Administration, 1775 Duke Street, Alexandria, Virginia 22314-3428, Fax No. 703-837-2861, Email: OCIOPRA@ncua.gov.

OMB Contact: Office of Management and Budget, ATTN: Desk Officer for the National Credit Union Administration, Office of Information and Regulatory Affairs, Washington, DC 20503.

FOR FURTHER INFORMATION CONTACT: Requests for additional information, a copy of the information collection request, or a copy of submitted comments should be directed to Tracy Crews at the National Credit Union Administration, 1775 Duke Street, Alexandria, VA 22314-3428, or at (703) 518-6444.

SUPPLEMENTARY INFORMATION:

I. Abstract and Request for Comments

The NCUA has developed two forms for collecting information from prospective outside counsel. One form relates to a budget or estimate of the legal fees, costs, and expenses that outside counsel would expect to invoice with respect to a particular legal matter. The other form includes representations and certifications, covering matters such as firm profile and expertise, malpractice insurance, price determination and contract solicitation methods, equal opportunity, lobbying, invoices, and conflicts of interest. The information will enable the NCUA to further standardize the data it uses to select outside counsel, consider additional criteria in making its selections, and improve efficiency and recordkeeping related to its selection process. In connection with seeking proposals from outside counsel, the NCUA's collections of information, in any of its capacities, are not subject to the Paperwork Reduction Act.¹ Nevertheless, the NCUA intends to voluntarily comply with the Paperwork Reduction Act in collecting this information.

¹ See 12 U.S.C. 1766(i)(2) (“In addition to the authority conferred upon it by other sections of this chapter, the [NCUA] Board is authorized in carrying out its functions under this chapter . . . to expend such funds, enter into such contracts with public and private organizations and persons, make such payments in advance or by way of reimbursement, acquire and dispose of, by lease or purchase, real or personal property, without regard to the provisions of any other law applicable to executive or independent agencies of the United States, and perform such other functions or acts as it may deem necessary or appropriate to carry out the provisions of this chapter, in accordance with the rules and regulations or policies established by the Board not inconsistent with this chapter . . . .) (emphasis added); see also 12 U.S.C. 1787(b)(2)(A) (providing that when the NCUA Board acts as conservator or liquidating agent, by operation of law, it succeeds to the legally distinct rights, titles and powers of relevant credit unions, which are not subject to the Paperwork Reduction Act).

The NCUA's estimates of the average number of respondents, burden, and total annual cost appear below. The estimated number of respondents is the NCUA's approximation of the average number of requests for proposals or inquiries for legal services it processes in any given calendar year. The estimated burden is the NCUA's assessment of the aggregate time prospective outside counsel will need to respond to the information on both the budget form and the representations and certifications form. The NCUA estimated the total annual cost by multiplying its estimate of the number of respondents (100) by the burden (2 hours) and multiplying that total by an estimated national average hourly billing rate for attorneys of $284.

The NCUA requests that you send your comments on this collection to the location listed in the addresses section. Your comments should address the following subjects: (a) The necessity of the information collection for the proper performance of the NCUA, including whether the information will have practical utility; (b) the accuracy of the NCUA's estimate of the burden (hours and cost) of the collection of information, including the validity of the methodology and assumptions used; (c) ways the NCUA could enhance the quality, utility, and clarity of the information to be collected; and (d) ways the NCUA could minimize the burden of the collection of the information on the respondents, such as through the use of automated collection techniques or other forms of information technology. It is the NCUA's policy to make all comments available to the public for review.

II. Data

Proposal for the following new collection of information:

OMB Number: 3133-New.

Form Number: N/A.

Type of Review: New collection.

Title: Contractor Budget, Representations, and Certifications.

Description: Standardized information from prospective outside counsel is essential to the NCUA in carrying out its responsibility as regulator, conservator, and liquidating agent for federally insured credit unions.

Respondents: Prospective outside legal counsel.

Estimated No. of Respondents/Recordkeepers: 100.

Estimated Burden Hours per Response: 2 hours.

Frequency of Response: Periodically, in response to solicitations.

Estimated Total Annual Burden Hours: 200.

Estimated Total Annual Cost: $56,800.

By the National Credit Union Administration Board on April 30th, 2013.
Mary Rupp,
Secretary of the Board.

[FR Doc. 2013-10541 Filed 5-2-13; 8:45 am]

BILLING CODE 7535-01-P